DEPARTMENT OF COMMERCE

National Oceanic and Atmospheric Administration

Agency Information Collection Activities; Submission to the Office of Management and Budget (OMB) for Review and Approval; Comment Request; Weather Modification Activities Reports

The Department of Commerce will submit the following information collection request to the Office of Management and Budget (OMB) for review and clearance in accordance with the Paperwork Reduction Act of 1995, on or after the date of publication of this notice. We invite the general public and other Federal agencies to comment on proposed, and continuing information collections, which helps us assess the impact of our information collection requirements and minimize the public's reporting burden. Public comments were previously requested via the Federal Register on 2 January 2024 during a 60-day comment period. This notice allows for an additional 30 days for public comments.

Agency: National Oceanic & Atmospheric Administration, Commerce.

Title: Weather Modification Activities Reports.

OMB Control Number: 0648-0025.

Form Number(s): NOAA Forms 17-4 and 17-4A.

Type of Request: Regular submission (extension of a current information collection).

Number of Respondents: 30.

Average Hours per Response: 60 minutes per initial report; approximately 10 cases involve interim reports; 30 minutes per interim or final report.

Total Annual Burden Hours: 50 hours.

Needs and Uses: The National Oceanic & Atmospheric Administration's Office of Atmospheric Research (OAR)/Weather Program Office is conducting this information collection pursuant to section 6(b) of Public Law 92-205. This law requires that all non-Federal weather modification activities (e.g., cloud seeding) in the United States (U.S.) and its territories be reported to the Secretary of Commerce through NOAA. This reporting is critical for gauging the scope of these activities, for determining the possibility of duplicative operations or of interference with another project, for providing a database for checking atmospheric changes against the reported activities, and for providing a single source of information on the safety and environmental factors used in weather modification activities in the U.S. Two forms are collected under this OMB Control Number: one prior to and one after the activity. The requirements are detailed in 15 CFR part 908. This data is used for scientific research, historical statistics, international reports and other purposes.

Affected Public: Business or other for-profit organizations.

Frequency: On occasion (Beginning and end of projects).

Respondent's Obligation: Mandatory.

Legal Authority: Public Law 92-205, Weather Modification Reporting Act of 1972.

This information collection request may be viewed at www.reginfo.gov. Follow the instructions to view the Department of Commerce collections currently under review by OMB.

Written comments and recommendations for the proposed information collection should be submitted within 30 days of the publication of this notice on the following website www.reginfo.gov/public/do/PRAMain. Find this particular information collection by selecting “Currently under 30-day Review—Open for Public Comments” or by using the search function and entering either the title of the collection or the OMB Control Number 0648-0025.

Sheleen Dumas,
Department PRA Clearance Officer, Office of the Under Secretary for Economic Affairs, Commerce Department.

[FR Doc. 2024-07583 Filed 4-9-24; 8:45 am]

BILLING CODE 3510-KD-P